DEPARTMENT OF THE INTERIOR

Bureau of Ocean Energy Management

Record of Decision for Authorizing the Use of Outer Continental Shelf (OCS) Sand Resources in the Martin County, Florida Hurricane Storm Damage Reduction Project

AGENCY: Bureau of Ocean Energy Management (BOEM), Interior.

ACTION: Notice of Availability of a Record of Decision.

SUMMARY: BOEM has issued a Record of Decision (ROD) to authorize the use of OCS sand resources by the U.S. Army Corps of Engineers (USACE) and Martin County Board of Commissioners in the Martin County, Florida Hurricane Storm Damage Reduction (HSDR) Project. The ROD documents the BOEM's decision in selecting the Preferred Alternative described in the USACE's Final Supplemental Environmental Impact Statement (SEIS) for the Martin County HSDR Project (August 2011). BOEM will enter into a negotiated agreement for the purpose of making sand available from a shoal on the OCS for placement on the beach in support of the beach nourishment, following the mandated 30-day wait period from the date of the issuance of the ROD. BOEM is announcing the availability of this ROD in accordance with the regulations implementing the National Environmental Policy Act (NEPA). The Deputy Director for the BOEM signed the ROD on March 28, 2012.

Authority: This NOA of the ROD is published pursuant to the regulations (40 CFR 1506.6) implementing the provisions of the NEPA of 1969 (42 U.S.C. 4321 et seq.).

SUPPLEMENTARY INFORMATION:

Description of the Martin County HSDR Project and BOEM's Connected Action

The USACE and Martin County Board of Commissioners have proposed to reduce the potential for damage to, or loss of, coastal properties and habitat along Hutchinson Island, Florida from storm-induced wave impacts and coastal erosion. In the Congressionally-authorized Martin County HSDR Project, the USACE will nourish 4 miles of beach using a sea-turtle friendly design template. The purpose of BOEM's connected action is to respond to the request for use of OCS sand in the beach nourishment, under the authority granted to the Department of the Interior by the Outer Continental Shelf Lands Act (OCSLA) (43 U.S.C. 1337(k)(2)). Under OCSLA, BOEM can convey, on a noncompetitive basis, the rights to use OCS sand, gravel, or shell resources for use in a program for shore protection, beach restoration or coastal wetland restoration undertaken by a Federal, state, or local government agency (43 U.S.C. 1337(k)(2)). The BOEM is undertaking this action to respond to the USACE's and Martin County Board of Commissioners' request to use OCS sand resources. The Secretary of the Interior delegated the authority granted in the OCSLA to BOEM.

Record of Decision

The BOEM's decision is supported by the comprehensive analysis presented in the USACE's Final SEIS. The SEIS assessed the physical, biological, and social/human impacts of the proposed project and considered a range of non-structural alternatives, including a no-action alternative, as well as impacts from proposed mitigation. The SEIS was developed cooperatively to fulfill all Federal agencies' obligations under NEPA and the environmental impacts of their connected actions were encompassed in the analysis. As the USACE is the lead agency and BOEM is a cooperating agency for the proposed action, BOEM independently reviewed and adopted the SEIS prepared by the USACE (43 CFR 46.120). The USACE published its ROD in February 2012.

The BOEM ROD summarizes the alternatives considered by BOEM, the decision BOEM made, the basis for the decision, the environmentally preferable alternative, required mitigation measures, and the process the USACE and BOEM, as a cooperating agency, undertook to involve the public and other Federal and state agencies. The decision identifies and adopts mitigation measures and monitoring requirements enforceable by BOEM and deemed practicable to avoid or minimize the environmental harm that could result from the project. In the USACE's ROD, the USACE committed to implementing the mitigation measures and monitoring requirements identified in BOEM's ROD. This action is taken with the understanding that any proposed use of OCS sand in future beach re-nourishment activities by the USACE will require a new negotiated agreement and an updated environmental analysis.

Availability of ROD

To obtain a printed copy of the ROD, you may contact BOEM, Office of Environmental Programs (HM 3107), 381 Elden Street, Herndon, Virginia 20170. An electronic copy of the ROD is available at BOEM's web site at: [http://www.boem.gov/Non-Energy-Minerals/Marine-Minerals-Program.aspx].

FOR FURTHER INFORMATION CONTACT: James F. Bennett, Bureau of Ocean Energy Management, Division of Environmental Assessment, 381 Elden Street, HM 3107, Herndon, Virginia 20170, (703) 787-1660, jfbennett@boem.gov.

Dated: April 18, 2012.
Walter D. Cruickshank,
Deputy Director, Bureau of Ocean Energy Management.

[FR Doc. 2012-10109 Filed 4-25-12; 8:45 am]

BILLING CODE 4310-VH-P